DEPARTMENT OF COMMERCE

National Oceanic and Atmospheric Administration

[Docket No. 080515671-8672-01; I.D. GF001]

Coastal and Estuarine Land Conservation Program (CELCP)—FY 2009 Competition

AGENCY: Office of Ocean and Coastal Resource Management (OCRM), the National Ocean Service (NOS), National Oceanic and Atmospheric Administration (NOAA), Commerce.

ACTION: Notice of funding availability.

SUMMARY: The purpose of this document is to advise eligible coastal states and territories (requirements described below) that OCRM is soliciting coastal and estuarine land conservation project proposals for competitive funding under the CELCP. States and territories must have submitted to NOAA a draft CELCP plan on or before May 1, 2008 in order to be eligible to participate in the FY2009 funding opportunity (see Final Guidelines for Coastal and Estuarine Land Conservation Program for more information on CELCP plan requirements, available at http://coastalmanagement.noaa.gov/land/media/CELCPfinal02Guidelines.pdf. Funding is contingent upon the availability of FY 2009 Federal appropriations. It is anticipated that projects funded under this announcement will have a grant start date between March 1, 2009 and October 1, 2009. The program authority is 16 U.S.C. 1456d. Applicants must comply with all requirements contained in the full funding opportunity announcement (see ADDRESSES).

DATES: The deadline for receipt of proposals through Grants.gov or to the OCRM office is 11:59 p.m. EST July 23, 2008. Applications may be submitted electronically at http://www.grants.gov or by mail to the address listed in this announcement. Applicants are strongly recommended to allow sufficient time for delivery of materials, electronically or by mail, by the deadline.

ADDRESSES: The full funding opportunity announcement and application materials are available online at: http://www.grants.gov or NOAA's CELCP Web site under “Funding Opportunities” (http://coastalmanagement.noaa.gov/land/celcp_fundingop.html). They may also be requested by contacting the program official identified below.

To Request an Application Package or for Further Information Contact: Elaine Vaudreuil, Phone: (301) 713-3155 ext 103, E-mail: Elaine.Vaudreuil@noaa.gov or Elisabeth Morgan, Phone: (301) 713-3155 ext. 166, E-mail: Elisabeth.Morgan@noaa.gov.

SUPPLEMENTARY INFORMATION: The Coastal and Estuarine Land Conservation Program (CELCP) was established “for the purpose of protecting important coastal and estuarine areas that have significant conservation, recreation, ecological, historical, or aesthetic values, or that are threatened by conversion from their natural or recreational state to other uses.” This announcement solicits proposals for land acquisition projects (fee simple interest or conservation easements) that can be completed within 18 months from the start date of the award and that have the purpose of protecting important coastal and estuarine areas. NOAA may extend project grants up to an additional 18 months (for a total project period of 3 years maximum) if circumstances warrant. The state or territory's designated lead agency for implementing the CELCP may solicit project proposals from additional state/territorial agencies, local governments as defined at 15 CFR 24.3, or entities eligible for assistance under Section 306A(e) of the Coastal Zone Management Act (CZMA) (16 U.S.C. 1455a(e)), provided that each agency or entity has the authority to acquire and manage land for conservation purposes. Eligible coastal states and territories may select and submit up to three projects for this competition. The maximum amount that may be requested for the Federal share of each project is $3,000,000.

Project proposals should describe how the project supports the purpose of the CELCP (described above), and specifically, how the project fits into the state or territory's CELCP plan.

The proposals should also detail: How the project will be completed in a timely manner, the existing and proposed uses of the property, how the project site will be managed in the future for long-term conservation, the applicant's qualifications to acquire and manage property for long-term conservation, the basis for the requested funding amount, including land acquisition costs and other costs that directly support the project, as well as the source of the non-Federal matching share.

The CELCP Guidelines, which were published in the Federal Register on June 17, 2003 (68 Fed. Reg. 35860-35869), establish the eligibility, procedural and programmatic requirements for participation in the CELCP, including the criteria for financial assistance awards under the program. The Guidelines outline the criteria and process for eligible states and territories to develop a CELCP plan, nominate land conservation projects to a national competitive process, as well as the criteria and process for NOAA to select projects at the national level for funding. All applications submitted pursuant to this notice must be consistent with the CELCP Guidelines, except that, for this solicitation, the eligibility requirement that states and territories have an approved CELC plan will be expanded to include states and territories that have submitted a draft CELCP plan to NOAA by May 1, 2008, for review. The CELCP Guidelines can be found at http://www.coastalmanagement.noaa.gov/land/media/celcpfinal02guidelines.pdf.

Electronic Access: The full text of the full funding opportunity announcement for this program can be accessed via the Grants.gov Web site at http://www.grants.gov. The announcement will also be available at http://coastalmanagement.noaa.gov/land/celcp_fundingop.html or by contacting the program officials identified under FOR FURTHER INFORMATION CONTACT. Applicants must comply with all requirements contained in the full funding opportunity announcement.

Statutory Authority: Authority for the CELCP is 16 U.S.C. 1456d.

CFDA: 11.419, Coastal Zone Management Administration Awards.

Funding Availability: NOAA anticipates that approximately 20-60 projects may be included on a competitively-ranked list of projects that are ready and eligible for funding in FY 2009. Funding for projects selected for the prioritized list is contingent upon availability of Federal appropriations for fiscal year 2009. Applicants are hereby given notice that funds have not yet been appropriated for this program. The FY 2009 President's Request for the program is $15 million. Annual appropriated funding levels for the CELCP ranged from $8-$50 million in fiscal years 2002-2008. The maximum amount that may be requested for the Federal share of each project of each project is $3,000,000. The amount of funding per award in previous years has ranged from $380,000 to $3,000,000 for competitively-selected projects, depending on the amount requested, size, and type of project. There is no guarantee that sufficient funds will be available to make awards for all qualified projects. Publication of this notice does not oblige NOAA to award any specific project or to obligate any available funds.

Eligibility: Only states and territories with Coastal Zone Management Programs or National Estuarine Research Reserves approved under the CZMA that have submitted a draft CELCP plan to NOAA on or before May 1, 2008, are eligible to participate in this funding competition. The eligible states and territories are: Alabama, Alaska, American Samoa, California, Connecticut, Delaware, Florida, Georgia, Guam, Hawaii, Indiana, Louisiana, Maine, Maryland, Massachusetts, Michigan, Mississippi, New Hampshire, New Jersey, New York, North Carolina, Northern Mariana Islands, Ohio, Oregon, Pennsylvania, Puerto Rico, Rhode Island, South Carolina, Texas, Virginia, Washington, and Wisconsin. The designated lead agency for implementing the CELCP in each state or territory is eligible to submit project for funding under this competition. A list of state lead agency contacts for the CELCP can be found at: http://www.coastalmanagement.noaa.gov/land/media/celcpstateleadcontacts.pdf.

The state's lead agency may solicit, and include in their application, project proposals from additional state agencies, or local governments as defined at 15 CFR 24.3, or entities eligible for assistance under section 306A(e) of the CZMA (16 U.S.C. 1455a(e)), provided that each has the authority to acquire and manage land for conservation purposes. Each state may submit up to three project proposals. The state will be responsible for ensuring that allocated funds are used for the purposes of and in a manner consistent with this program. Interested parties should contact the applicable state's CELCP lead contact for additional details about the state's project solicitation requirements.

Cost Sharing Requirements: Federal funds awarded under this program must be matched with non-federal funds at a ratio of 1:1, with the following exception. The 1:1 matching requirement is waived for any project under $200,000 for Insular Areas, defined as the jurisdictions of the U.S. Virgin Islands, Guam, American Samoa, and the Commonwealth of the Northern Mariana Islands. Non-federal matching funds may be derived from state, local, non-governmental or private sources in the form of cash or in-kind contributions. Cost-sharing requirements for the CELCP are specified in Section 2.7 of the CELCP Guidelines.

Evaluation and Selection Procedures: The general evaluation criteria and selection factors that apply to full applications to this funding opportunity are summarized below. The evaluation criteria for full applications will have different weights and details. Further information about the evaluation criteria and selection factors can be found in the full funding opportunity announcement.

Evaluation Criteria for Projects: 1. Importance and/or relevance of proposed project to the program goals (55 points out of 110). This evaluation factor seeks to determine whether there is intrinsic value in the proposed work and relevance to NOAA, Federal, regional, state/territorial, or local priorities. 2. Technical/Scientific Merit (25 points out of 110). This evaluation factor seeks to determine whether the proposed approach is technically sound and/or innovative, if the methods are appropriate, and whether there are clear project goals and objectives. 3. Overall Qualifications of Applicants (10 points out of 110). This evaluation factor seeks to determine whether the applicant possesses the necessary education, experience, training, facilities, and administrative resources to accomplish the project. 4. Project Costs (20 points out of 110). The budget is evaluated to determine if it is realistic and commensurate with the project needs and timeframe.

Review and Selection Process: Once a full application has been received, NOAA will conduct an initial administrative review to determine compliance with requirements, completeness of the application, and eligibility of proposed costs and uses of the property. All proposals will be evaluated and scored individually in accordance with the assigned weights of the above evaluation criteria by an independent peer mail review or by an independent peer panel review. Both Federal and non-Federal experts may be used in this process. If non-Federal experts are used in this process, no consensus advice will be given by either the peer mail reviewers or the independent peer panel.

Each proposal will be reviewed by at least three reviewers. Every project will be scored by the same number of reviewers. The scores will be presented to the program officers and averaged for a final score, which will be used to produce a rank order of the proposals. A final list will be ranked in order unless the proposal is justified to be selected out of rank order based upon the appropriate selection factors, listed below. The final ranked list may be made available prior to final appropriations or final selections. Subsequent grant administration procedures will be in accordance with current DOC and NOAA grant administration procedures.

Selection Factors for Projects: The selecting official may choose to recommend a proposal out of rank order based upon: Availability of funding; geographic distribution of projects and/or funds; program objectives and priorities; duplication with projects funded, or under consideration by, NOAA or other Federal agencies, the applicant's prior performance period, and/or adequacy of information necessary to make a NEPA determination and draft necessary documentation before recommendations are made to the Grants Officer.

Intergovernmental Review: Applications under this program are subject to Executive Order 12372, “Intergovernmental Review of Federal Programs.” A list of participating states and the clearinghouse points of contact can be found at http://whitehouse.gov/omb/grants/spoc.html.

Limitation of Liability: In no event will NOAA or the Department of Commerce be responsible for proposal preparation costs if this program fails to receive funding or is cancelled because of other agency priorities. Publication of this announcement does not oblige NOAA to award any specific project or to obligate any available funds.

National Environmental Policy Act (NEPA): NOAA must analyze the potential environmental impacts, as required by the National Environmental Policy Act (NEPA), for applicant projects or proposals that are seeking NOAA federal funding opportunities. Detailed information on NOAA compliance with NEPA can be found at the following NOAA NEPA Web site: http://www.nepa.noaa.gov/, including our NOAA Administrative Order 216-6 for NEPA, http://www.nepa.noaa.gov/NAO216-6-TOC.pdf, and the Council on Environmental Quality implementation regulations, http://ceq.eh.doe.gov/nepa/regs/ceq/toc_ceq.htm. Consequently, as part of an applicant's package, and under their description of their program activities, applicants are required to provide detailed information on the activities to be conducted, locations, sites, species and habitat to be affected, possible construction activities, and any environmental concerns that may exist (e.g., the use and disposal of hazardous or toxic chemicals, introduction of non-indigenous species, impacts to endangered and threatened species, aquaculture projects, and impacts to coral reef systems). In addition to providing specific information that will serve as the basis for any required impact analyses, applicants may also be requested to assist NOAA in drafting of an environmental assessment, if NOAA determines an assessment is required. Applicants will also be required to cooperate with NOAA in identifying feasible measures to reduce or avoid any identified adverse environmental impacts of their proposal. The failure to do so shall be grounds for not selecting an application. In some cases if additional information is required after an application is selected, funds can be withheld by the Grants Officer under a special award condition requiring the recipient to submit additional environmental compliance information sufficient to enable NOAA to make an assessment on any impacts that a project may have on the environment.

The Department of Commerce Pre-Award Notification Requirements for Grants and Cooperative Agreements: The Department of Commerce Pre-Award Notification Requirements for Grants and Cooperative Agreements contained in the Federal Register notice of February 11, 2008 (73 FR 7696), are applicable to this solicitation.

Paperwork Reduction Act: This document contains collection-of-information requirements subject to the Paperwork Reduction Act (PRA). The use of Standard Forms 424, 424A, 424B, and SF-LLL have been approved by OMB under the respective control numbers 0348-0043, 0348-0044, 0348-0040, and 0348-0046.

Notwithstanding any other provision of law, no person is required to respond to, nor shall a person be subject to a penalty for failure to comply with, a collection of information subject to the requirement of the PRA unless that collection of information displays a currently valid OMB control number.

Executive Order 12866: This notice has been determined to be not significant for purposes of Executive Order 12866.

Executive Order 13132 (Federalism): It has been determined that this notice does not contain policies with Federalism implications as that term is defined in Executive Order 13132.

Administrative Procedure Act/Regulatory Flexibility Act: Prior notice and opportunity for public comment are not required by the Administrative Procedure Act or any other law for rules concerning public property, loans, grants, benefits, and contracts (5 U.S.C. 553(a)(2)). Because notice and opportunity for comments are not required pursuant to 5 U.S.C. 553 or any other law, the analytical requirements of the Regulatory Flexibility Act (5 U.S.C. 601 et seq.) are inapplicable. Therefore, a regulatory flexibility analysis has not been prepared.

Dated: May 20, 2008.
John E. Potts,
Acting Associate Assistant Administrator for Management and CFO/CAO, NOS, National Oceanic and Atmospheric Administration.

[FR Doc. E8-11677 Filed 5-22-08; 8:45 am]

BILLING CODE 3510-22-P